DEPARTMENT OF COMMERCE

International Trade Administration

[A-428-841, A-570-925]

Sodium Nitrite From Germany and the People's Republic of China: Final Results of the Expedited Second Sunset Reviews of the Antidumping Duty Orders

AGENCY: Enforcement and Compliance, International Trade Administration, Department of Commerce.

SUMMARY: As a result of these expedited sunset reviews, Commerce finds that revocation of the antidumping duty orders would be likely to lead to the continuation or recurrence of dumping at the levels indicated in the “Final Results of Review” section of this notice.

DATES: Applicable June 11, 2019.

FOR FURTHER INFORMATION CONTACT: Ian Hamilton AD/CVD Operations, Office II, Enforcement and Compliance, International Trade Administration, U.S. Department of Commerce, 1401 Constitution Avenue NW, Washington, DC 20230; telephone: (202) 482-4798.

SUPPLEMENTARY INFORMATION:

Background

On February 5, 2019, Commerce published the notice of initiation of the second sunset review of the antidumping duty orders on sodium nitrite from Germany and the People's Republic of China (China) ¹ pursuant to section 751(c) of the Act.² On February 21, 2019, Commerce received notices of intent to participate from Chemtrade Chemicals US LLC (Chemtrade), a domestic interested party, within the 15-day deadline specified in 19 CFR 351.218(d)(1)(i).³ Chemtrade claimed interested party status under section 771(9)(C) of the Act as a producer of sodium nitrite in the United States.

¹ See Sodium Nitrite from the Federal Republic of Germany and the People's Republic of China: Antidumping Duty Orders, 73 FR 50593 (August 27, 2008).

² See Initiation of Five-Year (Sunset) Reviews, 84 FR 1705 (February 5, 2019). The initiation of these reviews was originally scheduled for January 2019 (see Antidumping or Countervailing Duty Order, Finding, or Suspended Investigation; Advance Notification of Sunset Review, 83 FR 62292 (December 3, 2018)), however, the initiation was affected by the partial federal government closure from December 22, 2018, through the resumption of operations on January 28, 2019. Due to the partial federal government closure, Commerce initiated these reviews in February 2019.

³ See Chemtrade's Letter, “Sodium Nitrite from Germany: Notice of Intent to Participate,” dated February 21, 2019; see also Chemtrade's Letter, “Sodium Nitrite from China: Notice of Intent to Participate,” dated February 21, 2019. Chemtrade originally filed these notices of intent to participate on January 15, 2018, but resubmitted them due to the partial federal government closure.

On March 7, 2019, Commerce received adequate substantive responses to the notice of initiation from Chemtrade within the 30-day deadline specified in 19 CFR 351.218(d)(3)(i).⁴ We received no substantive responses from respondent interested parties with respect to either of the order covered by these sunset reviews.

⁴ See Chemtrade's Letter, “Sodium Nitrite from Germany and China: Substantive Response to Notice of Initiation of Five-Year (Sunset) Review of the Antidumping Duty Orders and Countervailing Duty Order,” dated March 7, 2019.

On March 20, 2019, Commerce notified the U.S. International Trade Commission that it did not receive an adequate substantive response from respondent interested parties.⁵ As a result, pursuant to 751(c)(3)(B) of the Act and 19 CFR 351.218(e)(1)(ii)(C)(2), Commerce conducted expedited (120-day) sunset reviews of the antidumping duty orders on sodium nitrite from Germany and China.

⁵ See Letter re: “Sunset Reviews Initiated on February 5, 2019 Applicable to January 2019,” dated March 20, 2019.

Scope of the Orders

The merchandise subject to these orders is sodium nitrite in any form, at any purity level. In addition, the sodium nitrite covered by these orders may or may not contain an anti-caking agent. Examples of names commonly used to reference sodium nitrite are nitrous acid, sodium salt, anti-rust, diazotizing salts, erinitrit, and filmerine. The chemical composition of sodium nitrite is NaNO2 and it is generally classified under subheading 2834.10.1000 of the Harmonized Tariff Schedule of the United States (HTSUS). The American Chemical Society Chemical Abstract Service (CAS) has assigned the name “sodium nitrite” to sodium nitrite. The CAS registry number is 7632-00-0.

While the HTSUS subheading, CAS registry number, and CAS name are provided for convenience and customs purposes, the written description of the scope of these orders is dispositive.

Analysis of Comments Received

All issues raised in these sunset reviews are addressed in the Issues and Decision Memorandum,⁶ which is hereby adopted by this notice. The issues discussed in the Issues and Decision Memorandum are the likelihood of continuation or recurrence of dumping and the magnitude of the dumping margin likely to prevail if the orders were revoked. The Issues and Decision Memorandum is a public document and is on file electronically via Enforcement and Compliance's Antidumping and Countervailing Duty Centralized Electronic Service System (ACCESS). ACCESS is available to registered users at http://acess.trade.gov, and to all in the Central Records Unit, Room B8024 of the main Department of Commerce building. A list of topics discussed in the Issues and Decision Memorandum is included as an Appendix to this notice. In addition, a complete version of the Issues and Decision Memorandum can be accessed directly on the internet at http://enforcement.trade.gov/frn. The signed Issues and Decision Memorandum and the electronic version of the Issues and Decision Memorandum are identical in content.

⁶ See Memorandum, “Issues and Decision Memorandum for the Expedited Second Sunset Reviews of the Antidumping Duty Orders on Sodium Nitrite from Germany and the People's Republic of China,” dated concurrently with this notice (Issues and Decision Memorandum).

Final Results of Reviews

Pursuant to sections 751(c)(1) and 752(c)(1) and (3) of the Act, Commerce determines that revocation of the antidumping duty orders on sodium nitrite from Germany and China would be likely to lead to the continuation or recurrence of dumping at weighted-average dumping margins up to 237.00 percent for Germany and 190.74 percent for China.

Notification to Interested Parties

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing the final results and this notice in accordance with sections 751(c), 752(c), and 777(i)(1) of the Act and 19 CFR 351.218.

Dated: June 5, 2019.
Jeffrey I. Kessler,
Assistant Secretary for Enforcement and Compliance.

Appendix

List of Topics Discussed in the Issues and Decision Memorandum

I. Summary

II. Background

III. Scope of the Orders

IV. History of the Orders

V. Legal Framework

VI. Discussion of the Issues

A. Likelihood of Continuation or Recurrence of Dumping

B. Magnitude of the Dumping Margins Likely to Prevail

VII. Final Results of Sunset Review

VIII. Recommendation

[FR Doc. 2019-12281 Filed 6-10-19; 8:45 am]

BILLING CODE 3510-DS-P